DEPARTMENT OF HOMELAND SECURITY

Coast Guard

[USCG-2007-0156]

Towing Safety Advisory Committee; Vacancies

AGENCY: Coast Guard, DHS.

ACTION: Request for applications.

SUMMARY: The Coast Guard seeks applications for membership on the Towing Safety Advisory Committee (TSAC). TSAC advises the Coast Guard on matters relating to shallow-draft inland and coastal waterway navigation and towing safety.

DATES: Application forms should reach the Coast Guard on or before February 15, 2008.

ADDRESSES: Application forms are available for download on the Advisory Committee's Web site at http://homeport.uscg.mil/tsac; look for “ACM” (Application for Committee Membership) under “General Information.” You may also request that an application form be e-mailed or sent to you by writing to Commandant (CG-5221/TSAC); U.S. Coast Guard, Room 1210; 2100 Second Street SW.; Washington, DC 20593-0001; by calling 202-372-1401; or by e-mail to Gerald.P.Miante@uscg.mil. Send your original completed and signed application in written form to the above street address. Be sure to sign and include the short page that allows us to keep political affiliation on file. In addition to your “HOME ADDRESS,” please include your e-mail address in that block. Also, in addition to your phone number, please indicate your fax number in the “TELEPHONE” block. This notice is available on the Internet at http://www.Regulations.gov in docket USCG-2007-0156.

FOR FURTHER INFORMATION CONTACT: Mr. Gerald Miante; Assistant Executive Director of TSAC, telephone 202-372-1407, fax 202-372-1926, or e-mail Gerald.P.Miante@uscg.mil.

SUPPLEMENTARY INFORMATION: The Towing Safety Advisory Committee (TSAC) is a Federal advisory committee mandated by Congress and operates under 5 U.S.C. App. (Pub. L. 92-463). It advises the Secretary of Homeland Security on matters relating to shallow-draft inland and coastal waterway navigation and towing safety. This advice also assists the Coast Guard in formulating the position of the United States in advance of meetings of the International Maritime Organization.

TSAC meets at least once a year at Coast Guard Headquarters, Washington, DC, or another location selected by the Coast Guard. It may also meet for extraordinary purposes. Its Subcommittees and working groups may meet to consider specific issues as required. The 16-person membership includes 7 representatives of the Barge and Towing Industry (reflecting a regional geographical balance); 1 member from the Offshore Mineral and Oil Supply Vessel Industry; and 2 members from each of the following areas: Maritime Labor; Shippers (of whom at least one shall be engaged in the shipment of oil or hazardous materials by barge); Port Districts, Authorities, or Terminal Operators; and the General Public.

The Coast Guard is currently considering applications for two positions from the Barge and Towing Industry, one position from Port Districts, Authorities, or Terminal Operators; one position from Maritime Labor; and one position from the General Public. To be eligible, applicants should have particular expertise, knowledge, and experience relative to the position in towing operations, marine transportation, or business operations associated with shallow-draft inland and coastal waterway navigation and towing safety. Each member serves for a three-year term. A few members may serve consecutive terms. All members serve at their own expense and receive no salary, reimbursement of travel expenses, or other compensation from the Federal Government.

Members of TSAC selected from the General Public will be appointed and serve as Special Government Employees (SGE) as defined in section 202(a) of title 18, United States Code (18 U.S.C.). As a candidate for appointment as an SGE, applicants are required to complete a Confidential Financial Disclosure Report (CFDR) on Office of Government Ethics Form 450 (OGE Form 450). OGE Form 450s are not releasable to the public except under an order issued by a Federal court or as otherwise provided under the Privacy Act (5 U.S.C. 552a). Only the Designated Agency Ethics Official (DAEO) or his designate may release a Confidential Financial Disclosure Report.

When filling in the “Name of Committee you are interested in” block, please indicate “TSAC” followed by the position category (e.g., Barge and Towing, Maritime Labor, Port Districts, Authorities, or Terminal Operators, or Public) for which you are applying.

In support of the policy of the Department of Homeland Security on gender and ethnic diversity, the Coast Guard encourages qualified women and members of minority groups to apply.

Dated: December 19, 2007.
J.G. Lantz,
Director, Commercial Regulations and Standards.

[FR Doc. E7-25309 Filed 12-28-07; 8:45 am]

BILLING CODE 4910-15-P